DEPARTMENT OF THE INTERIOR

Bureau of Reclamation

[RR85854000, 223R5065C6, RX.59689831.0000000; OMB Control Number 1006-NEW]

Agency Information Collection Activities; Submission to the Office of Management and Budget for Review and Approval; Technical Service Center Summer Intern Program Application

AGENCY: Bureau of Reclamation, Interior.

ACTION: Notice of information collection; request for comment.

SUMMARY: In accordance with the Paperwork Reduction Act of 1995, we, the Bureau of Reclamation, are proposing a new information collection that is currently in use without OMB approval. The publication of this 30-day notice is required to bring this information collection into compliance.

DATES: Interested persons are invited to submit comments on or before August 1, 2022.

ADDRESSES: Written comments and recommendations for the proposed information collection should be sent within 30 days of publication of this notice to https://www.reginfo.gov/public/do/PRAMain. Find this particular information collection by selecting “Currently Under 30-day Review—Open for Public Comments” or by using the search function. Please provide a copy of your comments to Jessica Torrey, Supervisory Civil Engineer, Denver Federal Center, P.O. Box 25007, MS 86-68540, Denver, CO 80225; or by email to jtorrey@usbr.gov. Please reference OMB Control Number 1006-NEW in the subject line of your comments.

FOR FURTHER INFORMATION CONTACT: To request additional information about this information collection request (ICR), contact Jessica Torrey by email at jtorrey@usbr.gov, or by telephone at (303) 445-2376. Individuals who are deaf, deafblind, hard of hearing, or have a speech disability may dial 711 (TTY, TDD, or TeleBraille) to access telecommunications relay services. You may also view the ICR at https://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 3, 2022 (87 FR 6200). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, address, or other personal identifying information in your comment, you should be aware that your entire comment—including your personal identifying information—may be made publicly available at any time. While you can ask us in your comment to withhold your personal identifying information from public review, we cannot guarantee that we will be able to do so.

Abstract: The principal purpose for collecting the requested information is to recruit eligible students to participate in Reclamation's Technical Service Center Summer Intern Program. General contact information will be collected along with information on academic standing and areas/fields of interest. Respondents are also asked to submit an interest letter and resume.

Title of Collection: Technical Service Center Summer Intern Program Application.

OMB Control Number: 1006-NEW.

Form Number: 7-3000.

Type of Review: New, in use without OMB approval.

Respondents/Affected Public: Students interested in internships at Reclamation.

Total Estimated Number of Annual Respondents: 150.

Total Estimated Number of Annual Responses: 150.

Estimated Completion Time per Response: 140 minutes.

Total Estimated Number of Annual Burden Hours: 350 hours.

Respondent's Obligation: Required to obtain or retain a benefit.

Frequency of Collection: Annually.

Total Estimated Annual Non-hour Burden Cost: $0.

An agency may not conduct or sponsor and a person is not required to respond to a collection of information unless it displays a currently valid OMB control number.

The authority for this action is the Paperwork Reduction Act of 1995 (44 U.S.C. 3501 et seq).

Richard LaFond,
Director, Technical Service Center.

[FR Doc. 2022-14047 Filed 6-29-22; 8:45 am]

BILLING CODE 4332-90-P